SMALL BUSINESS ADMINISTRATION

[Disaster Declaration #11004 and #11005]

Minnesota Disaster Number MN-00011

AGENCY: Small Business Administration.

ACTION: Amendment 3.

SUMMARY: This is an amendment of the Presidential declaration of a major disaster for the State of Minnesota (FEMA-1717-DR), dated 08/23/2007.

Incident: Severe Storms and Flooding.

Incident Period: 08/18/2007 through 08/31/2007.

Effective Date: 09/04/2007.

Physical Loan Application Deadline Date: 10/22/2007.

EIDL Loan Application Deadline Date: 05/23/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Minnesota, dated 08/23/2007 is hereby amended to include the following areas as adversely affected by the disaster:

Primary Counties: Dodge.

All other counties contiguous to the above named primary county have previously been declared.

All other information in the original declaration remains unchanged.

(Catalog of Federal Domestic Assistance Numbers 59002 and 59008)

Herbert L. Mitchell,
Associate Administrator for Disaster Assistance.

[FR Doc. 07-4453 Filed 9-14-07; 8:45 am]

BILLING CODE 8025-01-M